DEPARTMENT OF HEALTH AND HUMAN SERVICES

Food and Drug Administration

21 CFR Parts 1 and 20

[Docket Nos. 2002N-0276 and 2002N-0278]

Interim Final Regulations Implementing Title III, Subtitle A, of Public Health Security and Bioterrorism Preparedness and Response Act of 2002—Section 305: Registration of Food Facilities and Section 307: Prior Notice of Imported Food Shipments; Notice of Public Meeting; Correction

AGENCY: Food and Drug Administration, HHS.

ACTION: Public meetings on interim final rules; correction.

SUMMARY: The Food and Drug Administration (FDA) is correcting a document that announced a series of domestic meetings to discuss the interim final regulations, issued on October 10, 2003, to implement two sections of the Public Health Security and Bioterrorism Preparedness and Response Act of 2002 (Bioterrorism Act) regarding the registration of food facilities and prior notice of imported food shipments. The document that published in the Federal Register of October 28, 2003 (68 FR 61340), contained an error. This document corrects that error.

FOR FURTHER INFORMATION CONTACT: Joyce A. Strong, Office of Policy and Planning (HF-27), Food and Drug Administration, 5600 Fishers Lane, Rockville, MD 20857, 301-827-7010.

SUPPLEMENTARY INFORMATION: In FR Doc. 03-27182, appearing on page 61340 in the Federal Register of Tuesday, October 28, 2003, the following correction is made:

1. On page 61341, in the third column, the Internet address for online registration is corrected as follows: http://www.cfsan.fda.gov/~dms/fsbtac15.html.

Dated: October 31, 2003.
Jeffrey Shuren,
Assistant Commissioner for Policy.

[FR Doc. 03-28046 Filed 11-6-03; 8:45 am]

BILLING CODE 4160-01-S